DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 22, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Nutrition Assistance Program (SNAP)-Waiver Requests to Offer Incentives to SNAP Recipients at SNAP Authorized Stores.

OMB Control Number: 0584-NEW.

Summary of Collection: SNAP equal treatment provisions at 7 CFR 278.2(b) and 7 CFR 274.7(f) require that SNAP recipients receive treatment equal to that received by other customers at all stores authorized to participate in SNAP with the exception that sales tax may not be charged on eligible foods purchased with SNAP benefits. This equal treatment provision prohibits both negative treatment (such as discriminatory practices) as well as preferential treatment (such as incentive programs). Pursuant to Section 4008 of the Agriculture Improvement Act of 2018, Public Law 115-334 (2018 Farm Bill), individual SNAP authorized retailers (or private organizations or governmental entities, which partner with authorized stores) may request that FNS waive the SNAP equal treatment provisions in order to be allowed to implement an incentive program the meets the requirements under 7 U.S.C. 2018(j) to encourage SNAP recipients to purchase healthier foods. Most SNAP authorized stores that offer incentives to SNAP recipients are either farmers' markets or part of a federally funded grant program that is authorized by statute, including the Gus Schumacher Nutrition Incentive Program (GusNIP) administered by the USDA's National Institute of Food and Agriculture (NIFA), and the Healthy Fluid Milk Incentive (HFMI) project administered by the Food and Nutrition Service.

Need and Use of the Information: Farmers markets are authorized to provide incentives to SNAP recipients under a blanket FNS waiver of the SNAP equal treatment provision, specifically for farmers' markets. Only incentive projects that are funded outside of a Federal grant, other than projects funded by farmers' markets, are required to have a waiver from FNS to provide incentives to SNAP households at authorized SNAP retailer locations. FNS provided incentive waivers to SNAP retailers prior to passage of the 2018 Farm Bill under FNS' regular waiver process and has been providing the waivers under a streamlined approach since 2020. Over the past 3 years, FNS has received an average of nine incentive waiver requests that generally cover multiple retailer locations, and we expect those numbers to increase over the next 5 years. With this new streamlined process, the Department estimates that out of 254,350 authorized retailers that participate in our program, approximately 730 different retailers would be covered under 15 different incentive waiver requests annually.

Description of Respondents: State, Local, or Tribal Government.

Number of Respondents: 15.

Frequency of Responses: Reporting: Annually.

Total Burden Hours: 30.

Rachelle Ragland-Greene,
Acting Departmental Information Collection Clearance Officer.

[FR Doc. 2024-03485 Filed 2-20-24; 8:45 am]

BILLING CODE 3410-30-P